DEPARTMENT OF THE TREASURY

Bureau of Alcohol, Tobacco and Firearms

27 CFR Part 9

[Notice No. 898]

RIN 1512-AA07

Proposal to Revise the Boundary of the Walla Walla Valley Viticultural Area and the Eastern Boundary of the Columbia Valley Viticultural Area (99R-141P)

AGENCY: Bureau of Alcohol, Tobacco and Firearms (ATF), Department of the Treasury.

ACTION: Notice of proposed rulemaking.

SUMMARY: The Bureau of Alcohol, Tobacco and Firearms (ATF) is proposing to extend the boundary of the Walla Walla Valley viticultural area. This proposal is the result of petitions filed by growers and winemakers located within the existing area and in the new area under consideration. ATF is also proposing redrawing a 3-mile section of the boundary of the Columbia Valley viticultural area so that it coincides with the boundary of the Walla Walla Valley viticultural area.

ATF believes that establishing viticultural areas and authorizing use of viticultural area names as appellations of origin allow wineries to designate the specific areas where the grapes used to make the wine were grown and enable consumers to better identify the wines they purchase.

DATES: Written comments must be received by August 7, 2000.

ADDRESSES: Address written comments to the Chief, Regulations Division, Bureau of Alcohol, Tobacco and Firearms, 650 Massachusetts Avenue, NW, Washington, DC 20226. See the Public Participation section of this notice for additional ways to send comments. See the Disclosure section of this notice for the location of our Reading Room.

FOR FURTHER INFORMATION CONTACT: Marjorie D. Ruhf, Regulations Division, Bureau of Alcohol, Tobacco and Firearms, 650 Massachusetts Avenue, NW, Washington, DC 20226, telephone (202) 927-8202, e-mail mdruhf@atfhq.atf.treas.gov.

SUPPLEMENTARY INFORMATION:

Background

On August 23, 1978, ATF published Treasury Decision ATF-53 (43 FR 37672, 54624) revising regulations in 27 CFR part 4. These regulations allow the establishment of definite American viticultural areas. The regulations also allow the name of an approved viticultural area to be used as an appellation of origin in the labeling and advertising of wine.

On October 2, 1979, ATF published Treasury Decision ATF-60 (44 FR 56692) which added a new part 9 to 27 CFR, providing for the listing of approved American viticultural areas. Section 4.25a(e)(1), Title 27, CFR, defines an American viticultural area as a delimited grape-growing region distinguishable by geographical features, the boundaries of which have been recognized and defined in part 9. Section 4.25a(e)(2) outlines the procedure for establishing an American viticultural area. Any interested person may petition ATF to establish a grape-growing region as a viticultural area. The petition should include:

(a) Evidence that the name of the proposed viticultural area is locally and/or nationally known as referring to the area specified in the petition;

(b) Historical or current evidence that the boundaries of the viticultural area are as specified in the petition;

(c) Evidence relating to the geographical features (climate, soil, elevation, physical features, etc.) which distinguish the viticultural features of the proposed area from surrounding areas;

(d) A description of the specific boundaries of the viticultural area, based on features which can be found on United States Geological Survey (U.S.G.S.) maps of the largest applicable scale; and

(e) A copy of the appropriate U.S.G.S. map(s) with the boundaries prominently marked.

Original Designation of the Walla Walla Valley and Columbia Valley Viticultural Areas

The Walla Walla Valley viticultural area was established by Treasury Decision (T.D.) ATF-165 on February 6, 1984 (49 FR 4374). The original petition, filed by the Walla Walla Valley Wine Growers Association, had requested designation of an area of approximately 300,000 acres. At the time of the original petition, ATF had been concerned that the total area to be designated was very large in proportion to the area used for viticulture. ATF and the petitioner agreed to reduce the size of the proposed area to encompass only the locations where grapes were being commercially grown. As approved, the Walla Walla Viticultural Area consisted of approximately 260,000 acres, and had two wine producers and 60 acres of grapes. The area was within the counties of Walla Walla in Washington State and Umatilla in Oregon.

Later, when the Columbia Valley viticultural area was designated (T.D. ATF-190, November 13, 1984, [49 FR 44895-44899]), the Walla Walla Valley viticultural area was thought to be entirely within the Columbia Valley viticultural area. In preparation for the current rulemaking, we reviewed the maps in question and discovered that there is an area approximately 3 miles long where the eastern boundary of the Walla Walla Valley viticultural area extends beyond the eastern boundary of the Columbia Valley viticultural area. See our further discussion under “ATF proposal for extension of the Columbia Valley viticultural area.”

Petitions for Extension of the Boundaries of Walla Walla Valley

ATF received a petition from Mr. Gaynor S. Derby of Spring Valley Vineyards, requesting that the northern boundary of the existing Walla Walla Valley viticultural area be extended to add approximately 3500 acres to the northeastern part of the approved area. Later, we received a petition from the Walla Walla Valley Winegrowers, a group representing 20 wineries and vineyards located within the existing area or within the area they propose to add. Mr. Norm McKibben of Pepper Bridge Winery submitted the petition on behalf of the group. The Walla Walla Valley Winegrowers propose to expand the Walla Walla Valley viticultural area to include all the area requested in the original petition and additional land to the north. The petitioners refer to the evidence submitted with the original petition to show geographic distinctiveness and name recognition and provide supplemental information.

If the Walla Walla Valley viticultural area were extended as the Walla Walla Winegrowers request, the area would have a total of approximately 340,000 acres, 800 acres of grapes, 23 growers and 21 wine producers. Mr. Derby, who petitioned for a smaller extension of the existing area, agreed to support the larger extension proposed by the Walla Walla Valley Winegrowers. In preparing this notice, we used material from both new petitions and from the original petition.

The Walla Walla Valley Winegrowers propose to restore the area removed from the original petition and extend the boundary from ½ mile to 4 miles further north. The area removed from the original petition had no commercial vineyards at the time of the original petition. There is now one commercial vineyard in that area, and there are two commercial vineyards in larger area the Walla Walla Valley Winegrowers propose to add.

In addition to the changes to the northern boundary noted above, the Walla Walla Valley Winegrowers proposed redrawing the southern boundary using features on the current revisions of the U.S.G.S. maps of the area. The measurements on these maps have been converted from feet to meters since the original application and designation of the area. As a result, the petitioner has chosen metric contour lines that do not exactly correspond to those in the original boundary, which represented feet. In particular, the southwest boundary of the area, originally marked by the 1000 foot contour line, would be changed to the 450 meter contour line, which corresponds to 1476 feet. This portion of the boundary would be moved outward (approximately 25 feet in most areas), enlarging the area very slightly. The land added by this proposed change is also drained by rivers that flow into the Walla Walla River, specifically Pine Creek, Dry Creek (Oregon) and several unnamed streams.

In order to identify the southeast boundary, formerly marked by the 2000 foot contour line, the Walla Walla Valley Winegrowers suggested using the 600 meter (1967 foot) contour line. This would have resulted in a slight reduction in the viticultural area's size in that portion of the boundary. However, the 2000 foot contour line in that area is also the boundary of the Columbia Valley viticultural area. ATF is proposing that the common boundary be kept at 2000 feet, indicated by a line to be drawn between the 600 and 650 meter contour lines on the new maps.

ATF Proposal for Extension of the Columbia Valley Viticultural Area

ATF is also proposing a minor adjustment to the boundary of the Columbia Valley viticultural area. In the original designation of the Columbia Valley viticultural area, ATF stated that the Walla Walla Valley viticultural area was entirely within the Columbia Valley viticultural area. As noted above, our recent review of the maps disclosed that there is a small area near Dixie, Washington, where the Walla Walla Valley viticultural area lies outside the boundaries of the Columbia Valley viticultural area. This occurs in a place where the official boundary of the Columbia Valley moves from the 2000 foot contour line to a state highway. Since both of these map features were used to approximate a natural boundary, ATF believes the Columbia Valley viticultural area's boundary may be amended without affecting the integrity of the area. We propose to amend the Columbia Valley viticultural area's boundary so it follows the 2000 foot contour line for an additional 3 miles north, and then shifts to the state highway as before. This proposed change extends the common boundary between the two viticultural areas and will eliminate any resulting confusion.

Evidence of Name

Based on historical materials supplied by petitioners in their original petition, there is substantial evidence indicating that the proposed extension to the Walla Walla Valley viticultural area was locally and/or nationally known as Walla Walla Valley:

(a) The original petition stated the area proposed for designation as the Walla Walla Valley “has been known as such since the time of settlement in the 1850's, even prior to the creation of the states of Oregon and Washington.”

(b) The Walla Walla Winegrowers noted the U.S.G.S. map of Walla Walla uses the name “Walla Walla Valley” to label an area that corresponds to the current viticultural area and places the name in a second location to the north of the existing boundary, in the area the petitioners seek to add.

(c) Mr. Derby quoted Professor W. D. Lyman's History of Walla Walla County, published in 1901. Professor Lyman described the Walla Walla Valley as “a large belt of agricultural land lying south of the Snake River and west of the Blue Mountains, extending across the Oregon Line on the south”—a description which fits the expanded area proposed for designation.

Evidence of Boundaries

The boundary of the original Walla Walla Valley viticultural area was limited to existing grape-growing areas for administrative reasons. In response to the new petitions, we are reconsidering the evidence submitted in support of the original boundaries. In the original petition and the new petitions, the proposed Walla Walla Valley viticultural area would be delineated by boundaries corresponding to the following natural features:

On the southeast, by the point where the north and south branches of the Walla Walla River emerge from the mountainous Umatilla National Forest and join to form the Walla Walla River,

On the north, by the drainage divide between the Walla Walla River and the Touchet River, and

On the west, where the Walla Walla River empties into the Columbia River.

Distinguishing Features

According to the original petitioners and the petitioners in the current rulemaking, the entire Walla Walla Valley shares characteristics of topography, soil composition and climate that set it apart from the surrounding area. The evidence of the original petition was presented as applying to the entire valley, and not just to the area that ATF proposed for designation as the Walla Walla Valley viticultural area. Therefore, we will summarize the material that was originally published for comment in ATF Notice No. 471 on June 27, 1983 [48 FR 29541-29543], with the understanding that it applies equally to the proposed extension of the Walla Walla Valley viticultural area. We will supplement this information with material supplied by the two petitions for extension.

In his petition to extend the Walla Walla Valley viticultural area, Mr. Gaynor S. Derby quoted from an article titled “Washington Wine and Dining” published in the November 15, 1998, issue of Wine Spectator:

Washington state straddles one of the world's great geological divides: the Cascade Range. To the west of its summits, the maritime influence of the Pacific is supreme, and copious rains produce lush evergreen forests. . . . To the east, the damp sea breezes are blocked, the air warms and vineyards flourish with water provided by the Columbia River. The result is a growing and dynamic wine region. . . .

Topography

The original petition quoted the State of Washington's Geology and Groundwater Resources of the Walla Walla River Basin, Washington-Oregon, published in 1965, to describe the topography of the area:

“In the Walla Walla River Basin, the main topographic unit is the valley plain, commonly called the Walla Walla Valley, which de[s]cends from about 1,500′ at the foot of the mountain slopes to about 500′ where the river cuts through the bedrock ridge near Divide. It lies astride the Oregon/Washington border.”

The area proposed for addition to the Walla Walla Valley viticultural area ranges from 250 to 600 meters (820 to 1,968 feet) in elevation, like the approved portion of the area. It is drained by creeks that generally flow south and east into the Walla Walla River. North of the new proposed boundary, the streams and creeks generally drain into the Touchet River, further to the north.

Soil

The original petition stated that the soils of the valley “are classified by the Soil Conservation Service as Soils of Bottom Lands and Low Terraces, Soils of Loessal Uplands, Soils of Loessal and Basaltic Uplands and Soils of Loessal and Lake-Laid Terraces, basically all loess derived soils.” Most of these soils are classed as I or II irrigated capability units by the Soil Conservation Service. By contrast, the soils west of the Touchet River and along the Snake and Columbia Rivers are classified as Class IV and VI. Soils to the east in the Blue Mountains are considered not suitable for cultivation. We note the areas chosen for soil contrast are outside the proposed expansion to the area.

Climate

As noted in the original petition, the climate of the Walla Walla Valley is distinctive because it has a growing season between 190 and 220 days, the longest within the surrounding six counties. The original petition contrasted places within the Walla Valley with places outside of the valley. The places chosen for contrast included Dayton, Prescott, and Eltopia, Washington, all to the north of the proposed northern extension to the viticultural area.

The Walla Walla Valley receives an average of 12.5 inches of precipitation a year, light in the summer, increasing and peaking in the winter. The Columbia Basin to the west and north receives less than 10 inches of precipitation in a year, and the Blue Mountains to the east and southeast receive 25-45 inches. Again, the places chosen for contrast are outside the proposed extension of the viticultural area.

Proposed Boundaries

The proposed revision to the boundary of the Columbia Valley viticultural area is described in § 9.74. The proposed revision to the boundary of the Walla Walla viticultural area is described in § 9.91.

U.S.G.S. Maps

The Walla Walla Winegrowers provided appropriate U.S.G.S. maps with their proposed boundaries prominently marked.

Executive Order 12866

It has been determined that this proposed regulation is not a significant regulatory action as defined in Executive Order 12866. Accordingly, this proposal is not subject to the analysis required by this Executive Order.

Regulatory Flexibility Act

It is hereby certified that this regulation will not have a significant economic impact on a substantial number of small entities. Any benefit derived from the use of a viticultural area name is the result of the proprietor's own efforts and consumer acceptance of wines from a particular area. No new requirements are proposed. Accordingly, a regulatory flexibility analysis is not required.

Paperwork Reduction Act

The provisions of the Paperwork Reduction Act of 1995 (44 U.S.C. 3507(j)) and its implementing regulations, 5 CFR Part 1320, do not apply to this notice of proposed rulemaking because no requirement to collect information is proposed.

Public Participation

ATF requests comments on the proposed regulations from all interested persons. We specifically request comments on the clarity of the proposed rule and how it may be made easier to understand.

Please include the following in all comments:

ATTN: Notice No. 898

Your name,

Your company or association name, if it is pertinent to your comment,

Your reason for interest in the project (are you a consumer, dealer, producer?),

Your signature on paper comments sent by mail or facsimile transmission (FAX).

Address written comments to the Chief, Regulations Division, Bureau of Alcohol, Tobacco and Firearms, P.O. Box 50221, Washington, DC 20091-0221.

Fax comments to (202) 927-8525. Be sure fax comments are legible, on 8½″ x 11″ paper, and they are 3 pages or less.

E-mail comments to nprm@atfhq.atf.treas.gov. E-mail comments must contain no attachments, special characters or encryption.

Comments, including the name of the commenter, will be disclosed to the public. Do not include any material in your comment if you consider it to be confidential or inappropriate for disclosure to the public.

ATF will treat all comments as original written comments. We do not acknowledge receipt of comments. We will carefully consider all comments received on or before the closing date. We will also consider comments received after that date if it is practical to do so, but we cannot guarantee consideration of comments received after the comment period closes.

During the comment period, you may request an opportunity to present oral testimony at a public hearing. However, the Director reserves the right, in light of all circumstances, to determine if a public hearing is necessary.

Disclosure

You may view and copy written comments on this project from 10 a.m. to 12 noon in the ATF Public Reading Room, Room 6480, 650 Massachusetts Avenue, NW, Washington, DC. Call the Librarian at (202) 927-2890 for an appointment at other times. Contact the Disclosure Division at (202) 927-8480 or visit http://www.atf.treas.gov/about/foia/index.htm to learn how to request photocopies of comments.

Drafting Information: Marjorie D. Ruhf of the Regulations Division, Bureau of Alcohol, Tobacco and Firearms drafted this document.

List of Subjects in 27 CFR Part 9

Administrative practices and procedures, Consumer protection, Viticultural areas, and Wine.

Issuance

We propose to amend Title 27, Code of Federal Regulations, Part 9, American Viticultural Areas, as follows:

PART 9—AMERICAN VITICULTURAL AREAS

Paragraph 1. The authority citation for part 9 continues to read as follows:

Authority: 27 U.S.C. 205.

Par. 2. Section 9.74 is amended by revising paragraphs (c)(43) and (c)(44) to read as follows:

§ 9.74 Columbia Valley.

* * *

(c) Boundaries. * * *

(43) Then southwest following Washington Highway 126 and U.S. Highway 12 through Marengo, Dayton, and Waitsburg to a point where an unnamed light-duty road leaves Highway 12 in an easterly direction in Minnick Station, Washington;

(44) Then east following the unnamed light-duty road for approximately 250 feet until it reaches the 2000' contour line;

* * * * *

Par. 3. Section 9.91 is revised to read as follows:

§ 9.91 Walla Walla Valley.

(a) Name. The name of the viticultural area described in this section is “Walla Walla Valley.”

(b) Approved maps. The appropriate maps for determining the boundaries of the Walla Walla Valley viticultural area are two U.S.G.S. maps, in the scale 1:100,000. They are entitled:

(1) “Walla Walla,” Washington—Oregon, 1980

(2) “Pendleton,” Oregon—Washington, 1983

(c) Boundaries. The Walla Walla Valley viticultural area is located within Walla Walla County in Washington State and Umatilla County in Oregon. It is entirely within the Columbia Valley viticultural area. The boundaries are as follows:

(1) The beginning point is on the Walla Walla quadrangle map, in T8N/37E, at the point where the 2,000 foot contour line intersects with an unnamed light duty road approximately 250 feet east of U.S. Highway 12 in Minnick, Washington (on maps measured in metric units, this elevation is between the 600 and 650 meter contour lines),

(2) Then the boundary goes northwest in a straight line for 7 kilometers (km), until it intersects with a power line that runs between T8N and T9N,

(3) Then the boundary follows the power line west for 8 km, where it diverges from the power line and goes west-southwest in a straight line for approximately 33 km to the intersection of 2 unnamed light duty roads in the area marked Ninemile Canyon in the southwest corner of T8N/R33E,

(4) Then the boundary goes south-southwest in a straight line approximately 8 km, until it reaches U.S. Highway 12, about 2.5 km east of Reese, Washington,

(5) Then the boundary goes south in a straight line for approximately 8 km, crossing the Washington—Oregon state line and moving onto the Pendleton U.S.G.S. map, where it meets the 450 m contour line in T6N/R32E, near an unnamed peak with an elevation of 461 m,

(6) Then the boundary follows the 450 m contour line in a generally southeasterly direction until it intersects Dry Creek in T4N/R35E,

(7) Then the boundary goes southeast along Dry Creek (Oregon) until it reaches the 2000 foot contour line,

(8) Then the boundary follows the 2000 foot contour line in a generally northeasterly direction, crossing the Oregon—Washington state line and returning to the Walla Walla U.S.G.S map, until it reaches the point of beginning.

Approved: May 22, 2000.
Bradley A. Buckles,
Director.

[FR Doc. 00-14162 Filed 6-5-00; 8:45 am]

BILLING CODE 4810-31-U